ENVIRONMENTAL PROTECTION AGENCY

(ER-FRL-9031-6)

Environmental Impact Statements; Notice of Availability

Responsible Agency: Office of Federal Activities, General Information (202) 564-7146 or http://www.epa.gov/nepa.

Weekly receipt of Environmental Impact Statements (EISs)

Filed 01/23/2017 through 01/27/2017

Pursuant to 40 CFR 1506.9.

Notice: Section 309(a) of the Clean Air Act requires that EPA make public its comments on EISs issued by other Federal agencies. EPA's comment letters on EISs are available at: http://www.epa.gov/compliance/nepa/eisdata.html.

EIS No. 20170021, Draft, USAF, MD, Presidential Aircraft Recapitalization Program at Joint Base Andrews-Naval Air Facility, Comment Period Ends: 03/20/2017, Contact: Jean Reynolds 210-925-4534.

EIS No. 20170022, Final, RUS, PR, Arecibo Waste-to-Energy and Resource Recovery Project, Review Period Ends: 03/06/2017, Contact: Steven Polacek 202-205-9805.

Dated: January 31, 2017.
Dawn Roberts,
Management Analyst, NEPA Compliance Division, Office of Federal Activities.

[FR Doc. 2017-02339 Filed 2-2-17; 8:45 am]

BILLING CODE 6560-50-P